ENVIRONMENTAL PROTECTION AGENCY

[FRL-6944-2]

Agency Information Collection Activities; EPA ICR No. 1503.04; Submission to OMB; Comment Request

AGENCY: Environmental Protection Agency (EPA).

ACTION: Notice of submission to OMB.

SUMMARY: In compliance with the Paperwork Reduction Act (PRA) (44 U.S.C. 3501 et seq.), this document announces that the following Information Collection Request (ICR) has been forwarded to the Office of Management and Budget (OMB) for review and approval: Data Acquisition for Registration (EPA ICR No. 1503.04; OMB No. 2070-0122). The ICR, which is abstracted below, describes the nature of the information collection activity and its expected burden and costs. The Federal Register document, required under 5 CFR 1320.8(d), soliciting comments on this collection of information was published on August 2, 2000 (65 FR 47491). EPA received no comments on this ICR during the 60-day comment period.

DATES: Additional comments may be submitted on or before March 14, 2001.

ADDRESSES: Send your comments, referencing the proper ICR numbers to: Ms. Sandy Farmer, U.S. Environmental Protection Agency, Office of Environmental Information, Collection Strategies Division (2822), 1200 Pennsylvania Ave, NW., Washington, DC 20460; And send a copy of your comments to: Office of Information and Regulatory Affairs, Office of Management and Budget (OMB), Attention: Desk Officer for EPA, 725 17th Street, NW., Washington, DC 20503.

FOR FURTHER INFORMATION CONTACT: Sandy Farmer at EPA by phone on 202-260-2740, by e-mail: farmer.sandy@epa.gov or access the ICR at http://www.epa.gov/icr/icr.htm and refer to EPA ICR No. 1503.04; OMB Control No. 2070-0122.

SUPPLEMENTARY INFORMATION: ICR Title: Data Acquisition for Registration (EPA ICR 1503.04, OMB Control No. 2070-0122).

ICR Status: This is a request for extension of an existing approved collection that is currently scheduled to expire on March 31, 2001. EPA is asking OMB to approve this ICR for three years. Under 5 CFR 1320.10(e)(2), the Agency may continue to conduct or sponsor the collection of information while the submission is pending at OMB.

Abstract: The Federal Insecticide, Fungicide and Rodenticide Act (FIFRA) (7 U.S.C. 136) requires the Environmental Protection Agency (EPA, the Agency) to register pesticides prior to distribution and sale within the United States. FIFRA also requires applicants for pesticide registration to provide EPA with the data needed to assess whether the registration of a pesticide would cause unreasonable adverse effects on human health or the environment, and grants EPA the authority to require registrants to provide additional data to maintain an existing registration.

Burden Statement: The annual “respondent” burden for this ICR is estimated to range from 6,267 hours to 54,288 hours per response, depending on the type of DCI.

According to the PRA, “burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The Agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR part 9.

The following is a summary of the burden estimates taken from the ICR:

Respondents/affected entities: 20.

Estimated total number of potential respondents: 9.

Frequency of response: As needed.

Estimated total/average number of responses for each respondent: 1-2.

Estimated total annual burden hours: 91,196.

Estimated total annual Non-labor burden costs: $0.

Dated: February 1, 2001.
Oscar Morales,
Director, Collection Strategies Division.

[FR Doc. 01-3507 Filed 2-9-01; 8:45 am]

BILLING CODE 6560-50-P